ENVIRONMENTAL PROTECTION AGENCY

[FRL-6895-4]

Agency Information Collection Activities: Submission for OMB Review; Comment Request; NESHAP Subpart S, Pulp and Paper Industry

AGENCY: Environmental Protection Agency (EPA).

ACTION: Notice.

SUMMARY: In compliance with the Paperwork Reduction Act (44 U.S.C. 3501 et seq.), this document announces that the following Information Collection Request (ICR) has been forwarded to the Office of Management and Budget (OMB) for review and approval: ICR for the National Emission Standards for Hazardous Air Pollutants (NESHAP), Pulp and Paper Industry, subpart S, OMB Control No. 2060-0377, expiration date 12/31/2000. The ICR describes the nature of the information collection and its expected burden and cost; where appropriate, it includes the actual data collection instrument.

DATES: Comments must be submitted on or before December 4, 2000.

ADDRESSES: Send comments on the Agency's need for this information, the accuracy of the provided burden estimates, and any suggested methods for minimizing respondent burden, including through the automated collection techniques to the following addresses. Please refer to EPA ICR No. 1805.02 and OMB Control No. 2060-0377 in any correspondence. Ms. Sandy Farmer, U.S. Environmental Protection Agency, Office of Environmental Information, Collection Strategies Division (2822), 1200 Pennsylvania Ave, NW, Washington, DC 20460; and to Office of Information and Regulatory Affairs, Office of Management and Budget, Attention: Desk Officer for EPA, 725 17th Street, NW, Washington, DC 20503.

FOR FURTHER INFORMATION CONTACT: For a copy of the ICR contact Sandy Farmer at EPA by phone at (202) 260-2740, by email at farmer.sandy@epa.gov, or download off the Internet at http:www.epa.gov/icr and refer to EPA ICR No. 1805.02. For technical questions about the ICR contact Seth Heminway at (202) 564-7017.

SUPPLEMENTARY INFORMATION: Title: NESHAP Subpart S, Pulp and Paper Industry, OMB Control No. 2060-0377; EPA ICR No. 1805.02, expiring 12/31/2000. This is a request for extension of a currently approved collection.

Abstract: This NESHAP standard requires initial notification, performance tests, and periodic reports. Owners or operators are also required to maintain records of the occurrence and duration of any startup, shutdown, or malfunction in the operation of an affected facility, or any period during which the monitoring system is inoperative. These notifications, reports, and records are essential in determining compliance and are required, in general, of all sources subject to NESHAP.

Any owner or operator subject to the provisions of this part shall maintain a file of these measurements, and retain the file for at least 5 years following the date of such measurements, maintain reports, and records. All reports are sent to the delegated State or Local authority. In the event that there is no such delegated authority, the reports are sent directly to the EPA Regional Office. This information is being collected to assure compliance with 40 CFR part 63, subpart S as authorized in sections 112 and 114(a) of the Clean Air Act. The required information consists of emissions data and other information that have been determined not to be private. An agency may not conduct or sponsor, and a person is not required to respond to a collection of information unless it displays a currently valid OMB control number. The OMB control numbers for EPA's regulations are listed in 40 CFR part 9 and 48 CFR Chapter 15. The Federal Register document required under 5 CFR 1320.8(d), soliciting comments on this collection of information, was published on April 18, 2000. No comments were received. Burden Statement: The annual public reporting and recordkeeping burden for this collection of information is estimated to average 463 hours per response. Burden means the total time, effort, or financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previously applicable instructions and requirement; train personnel to be able to respond to a collection of information; search data sources; complete and review the collection of information; and transmit or otherwise disclose the information.

Respondents/Affected Entities: Owners and Operators of Pulp and Paper Mills.

Estimated Number of Responses: 158.

Frequency of Response: 2.

Estimated Total Annual Hour Burden: 146,401.

Estimated Total Annualized Capital and Operating & Maintenance Cost Burden: $2,003,500.

Dated: October 24, 2000.
Oscar Morales,
Director, Collection Strategies Division.

[FR Doc. 00-28163 Filed 11-1-00; 8:45 am]

BILLING CODE 6560-50-U